DEPARTMENT OF TRANSPORTATION

Maritime Administration

[Docket No. DOT-MARAD-2014-0063]

Agency Requests for Renewal of a Previously Approved Information Collection(s): Automated Mutual Assistance Vessel Rescue System (AMVER)

AGENCY: Maritime Administration, DOT.

ACTION: Notice and request for comments.

SUMMARY: The Department of Transportation (DOT) invites public comments about our intention to request the Office of Management and Budget (OMB) approval to renew an information collection. We are required to publish this notice in the Federal Register by the Paperwork Reduction Act of 1995, Public Law 104-13.

DATES: Written comments should be submitted by June 23, 2014.

ADDRESSES: You may submit comments [identified by Docket No. DOT-MARAD-2014-0063] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Russell Alan Krause, 202-366-1031, Division of Sealift Operations, W23-102-306, Maritime Administration, U.S. Department of Transportation, 1200 New Jersey Avenue SE., Washington, DC 20590.

SUPPLEMENTARY INFORMATION:

OMB Control Number: 2133-0025.

Title: Automated Mutual Assistance Vessel Rescue System (AMVER).

Form Numbers: None.

Type of Review: Extension of currently approved information collection.

Background: This collection of information is used to gather information regarding the location of U.S.-flag vessels and certain other U.S. citizen-owned vessels for the purpose of search and rescue in the saving of lives at sea and for the marshalling of ships for national defense and safety purposes. The collection of information is necessary for maintaining a current plot of U.S.-flag and U.S.-owned vessels.

Respondents: U.S.-flag and U.S. citizen-owned vessels.

Number of Respondents: 3,998.

Frequency: Every 48 hours.

Number of Responses: 731,634.

Total Annual Burden: 51,214.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

Dated: April 15, 2014.
Julie P. Agarwal,
Secretary, Maritime Administration.

[FR Doc. 2014-09044 Filed 4-22-14; 8:45 am]

BILLING CODE 4910-81-P